FEDERAL COMMUNICATIONS COMMISSION

[Report No. 2886]

Petitions for Reconsideration of Action in Rulemaking Proceeding

April 6, 2009.

Petitions for Reconsideration have been filed in the Commission's Rulemaking proceeding listed in this Public Notice and published pursuant to 47 CFR 1.429(e). The full text of these documents is available for viewing and copying in Room CY-B402, 445 12th Street, SW., Washington, DC or may be purchased from the Commission's copy contractor, Best Copy and Printing, Inc. (BCPI) (1-800-378-3160). Oppositions to these petitions must be filed by April 28, 2009. See Section 1.4(b)(1) of the Commission's rules (47 CFR 1.4(b)(1). Replies to oppositions must be filed within 10 days after the time for filing oppositions have expired.

Subject: In the Matter of Unlicensed Operation in the TV Broadcast Bands (ET Docket No. 04-186), Additional Spectrum for Unlicensed Devices below 900 MHz and in the 3 GHz Band (ET Docket No. 02-380).

Number of Petitions Filed: 17.

Marlene H. Dortch,
Secretary.

[FR Doc. E9-8397 Filed 4-10-09; 8:45 am]

BILLING CODE 6712-01-P